NUCLEAR REGULATORY COMMISSION

[Docket Nos. 50-18 and 50-183; NRC-2019-0082]

GE Hitachi Nuclear Energy; Vallecitos Nuclear Center Partial Site Release

AGENCY: Nuclear Regulatory Commission.

ACTION: Partial site release; public meeting and request for comment.

SUMMARY: The U.S. Nuclear Regulatory Commission (NRC) is considering a request from GE Hitachi Nuclear Energy (GEH) to approve the release for unrestricted use of a portion of its property under the control of the NRC power reactor licenses for the Vallecitos Nuclear Center (VNC) in Sunol, California. Approval of the request would allow GEH to make available to the Alameda County Transportation Commission an approximately seven-acre portion on the southern boundary of the GEH-controlled property to support road development and widening of California State Highway 84. The NRC is soliciting public comment on the requested action and invites interested persons to participate. The NRC plans to hold a public meeting to promote full understanding of the requested actions and to facilitate public comment.

DATES: Submit comments by April 26, 2019. Comments received after this date will be considered if it is practical to do so, but the Commission is able to ensure consideration only for comments received before this date. A public meeting will be held on March 28, 2019.

ADDRESSES: You may submit comments by any of the following methods:

• Federal Rulemaking Website: Go to http://www.regulations.gov and search for Docket ID NRC-2019-0082. Address questions about NRC Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jack Parrott, Office of Nuclear Material Safety and Safeguards, U.S. Nuclear Regulatory Commission, Washington, DC 20555-0001; telephone: 301-415-6634; email: Jack.Parrott@nrc.gov.

SUPPLEMENTARY INFORMATION:

I. Obtaining Information and Submitting Comments

A. Obtaining Information

Please refer to Docket ID NRC-2019-0082. You may obtain publicly-available information related to this action by any of the following methods:

• Federal Rulemaking Website: Go to http://www.regulations.gov and search for Docket ID NRC-2019-0082.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The requesting document, entitled “GE-Hitachi Nuclear Energy—Unconditional Release of Route 84 Frontage Section of Vallecitos Nuclear Center (VNC) Site,” is available in ADAMS under accession no. ML18348A425.

• NRC's PDR: You may examine and purchase copies of public documents at the NRC's PDR, Room O1-F21, One White Flint North, 11555 Rockville Pike, Rockville, Maryland 20852.

B. Submitting Comments

Please include Docket ID NRC-2019-0082. The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC received a request for approval of the partial site releases from GE Hitachi Nuclear Entergy (GEH or licensee), by letter dated December 14, 2018 (ADAMS Accession No. ML18348A425). The request seeks approval for release for unrestricted use of a non-impacted portion of the VNC site acreage located at 6705 Vallecitos Rd., Sunol, California. The proposed release area is an approximately seven-acre portion on the south side of the licensee-controlled facility property.

The GEH licenses (NRC License No. DPR-1, Docket No. 50-18, and License No. DR-10, Docket No. 50-183) are for power reactors licensed under part 50, “Domestic Licensing of Production and Utilization Facilities,” of title 10 of the Code of Federal Regulations (10 CFR). The two facilities are certified as permanently shut down with licenses allowing only the possession of nuclear material (not operation of the reactors). Both reactors are currently in “SAFSTOR” decommissioning mode awaiting the termination of their power reactor licenses.

The licensee requests this partial site release for unrestricted use under 10 CFR 50.83, “Release of part of a power reactor facility or site for unrestricted use.” The licensee has declared this portion of the site to be “non-impacted” as defined in 10 CFR 50.2, “Definitions.” Approval of the request would allow GEH to make the released portion of the property available to the Alameda County Transportation Commission to support road development and widening of California State Highway 84.

As described in 10 CFR 50.83(c), the NRC will determine whether the licensee has adequately evaluated the effect of releasing the properties per the requirements of 10 CFR 50.83(a)(1); determine whether the licensee's classification of any released area as “non-impacted” is adequately justified; and if the NRC determines that the licensee's submittal is adequate, inform the licensee in writing that the release is approved.

III. Public Meeting

The NRC will conduct a public meeting to discuss GEH's request for approval of the partial site release. The meeting will be held on Thursday, March 28, 2019, from 7:00 p.m. until 8:30 p.m., Pacific Daylight Time, at the Aloft Hotel Dublin-Pleasanton, 4075 Grafton Street, Dublin, California.

This is a Category 3 public meeting where stakeholders are invited to fully engage NRC staff to provide a range of views, information, concerns and suggestions with regard to regulatory issues related to GEH's request. After the licensee and NRC staff presentations, the public can ask questions and give feedback. Comments can be provided orally or in writing to the NRC staff present at the meeting.

Stakeholders should monitor the NRC's public meeting website for information about the public meeting at: https://www.nrc.gov/pmns/mtg. The agenda will be posted no later than 10 days prior to the meeting.

Dated at Rockville, Maryland, this 21st day of March 2019.
For the Nuclear Regulatory Commission.
Stephen S. Koenick,
Acting Director, Division of Decommissioning, Uranium Recovery and Waste Programs, Office of Nuclear Material Safety and Safeguards.

[FR Doc. 2019-05802 Filed 3-26-19; 8:45 am]

BILLING CODE 7590-01-P